DEPARTMENT OF ENERGY

Federal Energy Regulatory Commission

18 CFR Part 35

[Docket Nos. RM01-8-000, RM10-12-000, RM12-3-000]

Order Updating Electric Quarterly Report Data Dictionary

AGENCY: Federal Energy Regulatory Commission.

ACTION: Order Updating Electric Quarterly Report (EQR) Data Dictionary; Correction.

SUMMARY: This notice contains corrections to the order (RM01-8-000, et al) which was published in the Federal Register of Friday, March 14, 2014 (79 FR 14369). This order updated the EQR Data Dictionary to indicate how market participants should enter information in certain fields of the new EQR system so that the new system's validation process will more readily accept filings. These updates to the EQR Data Dictionary enable the implementation of the Commission's revised EQR filing process. This order also updated the EQR Data Dictionary's list of Balancing Authority names and abbreviations to reflect changes in the official source of such data.

DATES: Effective April 4, 2014.

FOR FURTHER INFORMATION CONTACT:

Astrid Kirstin Rapp (Technical Information), Office of Enforcement, Federal Energy Regulatory Commission, 888 First Street NE., Washington, DC 20426, (202) 502-6246.

Adam Batenhorst (Legal Information), Office of the General Counsel, Federal Energy Regulatory Commission, 888 First Street NE., Washington, DC 20426, (202) 502-6150.

SUPPLEMENTARY INFORMATION:

| Docket Nos.
Filing requirements for El. Utility, S.A. | RM01-8-000
Electric Market Transparency Provisions of Section 220 of the Federal Power Act | RM10-12-000
Revisions to Electric Quarterly Report Filing Process | RM12-3-000

Errata Notice

On March 10, 2014, the Commission issued an Order Updating Electric Quarterly Report Data Dictionary in the above referenced dockets. Filing Requirements for El. Utility, S.A., 146 FERC ¶ 61,169 (2014). This errata notice serves to correct the issuance date referenced in the order's attachment and to make other corrections to the attachment. The order is revised as follows:

1. The third line of the Attachment should read “Version 3.0 (Issued March 10, 2014)”.

2. The Value Column of Field Number 57 should read “See Balancing Authority Table Appendix B.”

3. The Value Column of Field Numbers 65 and 68 should read “Number with up to 6 decimals.”

4. The Value Column of Field Numbers 69 and 70 should read “Number with up to 2 decimals.”

5. The Value Column of Field Number 71 should read “FS# (where “#” is an integer)”.

6. Line 45 of the table in Appendix B should contain a check mark in the Outside US* Column.

7. Line 47 of the table in Appendix B should not contain a check mark in the Outside US* Column.

8. Appendix C should be titled “Appendix C. Hub”.

9. Line 13 of the table in Appendix D should read “NA” in the Time Zone Column.

10. Line 18 of the table in Appendix E should read “FLAT RATE” in the Units Column and “Flat Rate” in the Definition Column.

11. Line 8 of Appendix G should be removed.

12. Line 4 of Appendix H should read “NYMEX” in the Exchange/Brokerage Service Column and “New York Mercantile Exchange” in the Definition Column.

A revised Attachment is attached for the convenience of the reader.

In FR Doc. 2014-05583 appearing on page 14369 in the Federal Register of Friday, March 14, 2014, the following corrections are made:

1. On page 14371, third column, the third line of the Attachment should read “Version 3.0 (Issued March 10, 2014)”.

2. On page 14382, the Value Column of Field Number 57 should read “See Balancing Authority Table Appendix B.”

3. On page 14383, the Value Column of Field Numbers 65 and 68 should read “Number with up to 6 decimals.”

4. On pages 14383 and 14384, the Value Column of Field Numbers 69 and 70 should read “Number with up to 2 decimals.”

5. On page 14385, the Value Column of Field Number 71 should read “FS# (where “#” is an integer)”.

6. On page 14391, Line 45 of the table in Appendix B should contain a check mark in the Outside US* Column.

7. On page 14391, Line 47 of the table in Appendix B should not contain a check mark in the Outside US* Column.

8. On pages 14395 and 14396, Appendix C should be titled “Appendix C. Hub”.

9. On page 14397, Line 13 of the table in Appendix D should read “NA” in the Time Zone Column.

10. On page 14397, Line 18 of the table in Appendix E should read “FLAT RATE” in the Units Column and “Flat Rate” in the Definition Column.

11. On page 14398, Line 8 of Appendix G should be removed.

12. On page 14398, Line 4 of Appendix H should read “NYMEX” in the Exchange/Brokerage Service Column and “New York Mercantile Exchange” in the Definition Column.

Dated: March 24, 2014.
Nathaniel J. Davis, Sr.,
Deputy Secretary.

Note: Attachment will not be published in the Code of Federal Regulations.

Attachment—Electric Quarterly Report Data Dictionary, Version 3.0 (Issued March 10, 2014)

BILLING CODE 6717-01-P

[FR Doc. 2014-07121 Filed 4-3-14; 8:45 am]

BILLING CODE 6717-01-P